ENVIRONMENTAL PROTECTION AGENCY

[FRL-9973-04-OW]

Environmental Financial Advisory Board Meeting

AGENCY: Environmental Protection Agency (EPA).

ACTION: Notice of open meeting of the Environmental Financial Advisory Board.

SUMMARY: The Environmental Protection Agency's (EPA) Environmental Financial Advisory Board (EFAB) will hold a public meeting on February 20-21, 2018. EFAB is an EPA advisory committee chartered under the Federal Advisory Committee Act to provide advice and recommendations to EPA on creative approaches to funding environmental programs, projects, and activities.

DATES: The full board meeting will be held Tuesday, February 20, 2018 from 1:30 p.m.-5:00 p.m., and Wednesday, February 22, 2018 from 9:00 a.m.-5:00 p.m.

ADDRESSES: Willard Intercontinental Washington Hotel, 1401 Pennsylvania Avenue, Washington, DC 20004.

FOR FURTHER INFORMATION CONTACT: For information on access or services for individuals with disabilities, or to request accommodations for a disability, please contact Sandra Williams at (202) 564-4999 or williams.sandra@epa.gov, at least 10 days prior to the meeting to allow as much time as possible to process your request.

SUPPLEMENTARY INFORMATION: The purpose of this meeting is to hear from informed speakers on environmental finance issues, proposed legislation, and EPA priorities; to discuss activities, progress, and preliminary recommendations with regard to current EFAB work projects; and to consider request for assistance from EPA program offices. Environmental finance discussions and presentations are expected on, but not limited to, the following topics: Predevelopment practices and funding tools that can assist local governments in evaluating public-private partnership as alternatives to current infrastructure delivery methods; developing metrics for measuring success of funding programs for water quality restoration in the Chesapeake Bay Watershed; financing and funding strategies that complement water system regionalization/consolidation; resilience investment and disaster recovery financing mechanisms; scoping and evaluation of a market-based Rural Alaska Waste Backhaul Service Program; and drinking water and clean water SRF funding to address lead fixture replacement projects. The meeting is open to the public; however, seating is limited. All members of the public who wish to attend the meeting must register, in advance, no later than Monday, January 26, 2018.

Dated: December 22, 2017.
Andrew Sawyers,
Director, Office of Wastewater Management, Office of Water.

[FR Doc. 2018-00616 Filed 1-18-18; 8:45 am]

BILLING CODE 6560-50-P